NATIONAL SCIENCE FOUNDATION

Sunshine Act Meetings

The National Science Board's Awards and Facilities Committee (A&F) hereby gives notice of the scheduling of a videoconference for the transaction of National Science Board business pursuant to the National Science Foundation Act and the Government in the Sunshine Act.

TIME AND DATE: Tuesday, February 14, 2023, from 1:00-3:30 p.m. EST.

PLACE: This meeting will be held at NSF headquarters, 2145 Eisenhower Ave., Alexandria, VA 22314, and by videoconference.

STATUS: Parts of this meeting will be open to the public. The rest of the meeting will be closed to the public.

MATTERS TO BE CONSIDERED: Committee Chair's Opening Remarks; Schedule of Upcoming Context and Action Items; Information Item: Overview of NSF's Approach to Risk Management across the Major Facilities Portfolio. Committee Chair's opening remarks; Action Item: Mid-scale Research Infrastructure Track 2 Portfolio Award; Information Item: Update on Antarctic Support Contract Request for Proposal; and Discussion: Investments Supporting U.S. Antarctic Program.

PORTIONS OPEN TO THE PUBLIC:

Open Session: 1:00-1:30 p.m.

Open agenda items: Committee Chair's Opening Remarks; Schedule of Upcoming Context and Action Items; Information Item: Overview of NSF's Approach to Risk Management across the Major Facilities Portfolio.

PORTIONS CLOSED TO THE PUBLIC:

Closed Session: 1:35-3:30 p.m.

Closed agenda items: Committee Chair's opening remarks; Action Item: Mid-scale Research Infrastructure Track 2 Portfolio Award; Information Item: Update on Antarctic Support Contract Request for Proposal; and Discussion: Investments Supporting U.S. Antarctic Program.

CONTACT PERSON FOR MORE INFORMATION: Point of contact for this meeting is: Michelle McCrackin, mmccrack@nsf.gov, (703) 292-7000. Meeting information and updates may be found at www.nsf.gov/nsb.

Christopher Blair,
Executive Assistant to the National Science Board Office.

[FR Doc. 2023-02571 Filed 2-2-23; 4:15 pm]

BILLING CODE 7555-01-P